DEPARTMENT OF ENERGY

Federal Energy Regulatory Commission

[Project No. 2157-167]

Snohomish County Public Utility District No. 1 and City of Everett; Notice of Intent To File License Application, Filing of Pre-Application Document, Commencement of Licensing Proceeding, Scoping Meetings, Solicitation of Comments on the PAD and Scoping Document, and Identification of Issues and Associated Study Requests

January 30, 2006.

a. Type of Filing: Notice of Intent to File License Application for a New License and Pre-Application Document; Commencing Licensing Proceeding.

b. Project No.: 2157-167.

c. Dated Filed: December 1, 2005.

d. Submitted By: Snohomish County Public Utility District (PUD) No. 1 and City of Everett (co-licensees).

e. Name of Project: Henry M. Jackson Hydroelectric Project.

f. Location: The Henry M. Jackson Hydroelectric Project is located on the Sultan River in Snohomish County, Washington. The project occupies lands of the Mt. Baker-Snoqualmie National Forest.

g. Filed Pursuant to: 18 CFR Part 5 of the Commission's Regulations.

h. Potential Applicant Contact: Glen Mixdorf, Relicensing Team Lead, Snohomish County PUD No. 1, 2320 California St, Everett, WA, 98201, (425) 783-8607 or via e-mail at grmixdorf@snopud.com.

i. FERC Contact: Linda Lehman Stewart (202) 502-6680 or via e-mail at linda.stewart@ferc.gov.

j. The Snohomish County PUD No. 1 and City of Everett filed a Pre-Application Document (PAD), including a proposed process plan and schedule, with the Commission pursuant to 18 CFR 5.6 of the Commission's regulations.

k. With this notice, we are initiating informal consultation with: (a) the U.S. Fish and Wildlife Service and NOAA Fisheries under section 7 of the Endangered Species Act and the joint agency regulations at 50 CFR, Part 402; (b) NOAA Fisheries under section 305(b) of the Magnuson-Stevens Fishery Conservation and Management Act and implementing regulations at 50 CFR 600.920; and (c) the State Historic Preservation Officer, as required by section 106, National Historical Preservation Act, and the implementing regulations of the Advisory Council on Historic Preservation at 36 CFR 800.2.

l. With this notice, we are designating the Snohomish County PUD No. 1 and City of Everett as the Commission's non-federal representative for carrying out informal consultation, pursuant to section 7 of the Endangered Species Act, section 305 of the Magnuson-Stevens Fishery Conservation and Management Act, and section 106 of the National Historic Preservation Act.

m. Copies of the PAD and Scoping Document 1 (SD1) are available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659. A copy is also available for inspection and reproduction at the address in paragraph h.

Register online at http://ferc.gov/esubscribenow.htm to be notified via e-mail of new filing and issuances related to this or other pending projects. For assistance, contact FERC Online Support.

n. With this notice, we are soliciting comments on the PAD and SD1 as well as study requests. All comments on the PAD and SD1, and study requests should be sent to the address above in paragraph h. In addition, all comments on the PAD and SD1, study requests, requests for cooperating agency status, and all communications to Commission staff related to the merits of the potential application (original and eight copies) must be filed with the Commission at the following address: Magalie R. Salas, Secretary, Federal Energy Regulatory Commission, 888 First Street, NE., Washington, DC 20426. All filings with the Commission must include on the first page, the project name (Henry M. Jackson Hydroelectric Project) and number (P-2157-167), and bear the appropriate descriptive heading “Comments on Pre-Application Document,” “Study Requests,” “Comments on Scoping Document 1,” “Request for Cooperating Agency Status,” or “Communications to and from Commission Staff.” Any individual or entity interested in submitting study requests, commenting on the PAD or SD1, and any agency requesting cooperating status must do so by March 31, 2006.

Comments on the PAD and SD1, study requests, requests for cooperating agency status, and other permissible forms of communications with the Commission may be filed electronically via the Internet in lieu of paper. The Commission strongly encourages electronic filings. See 18 CFR 385.2001(a)(1)(iii) and the instructions on the Commission's Web site (http://www.ferc.gov) under the “e-filing” link.

o. At this time, Commission staff intends to prepare an Environmental Assessment (EA) for the project, in accordance with the National Environmental Policy Act (NEPA).

Scoping Meetings

We will hold two scoping meetings at the times and places noted below. The daytime meeting will focus on resource agency, Indian tribes, and non-governmental organization concerns, while the evening meeting is primarily for receiving input from the public. We invite all interested individuals, organizations, and agencies to attend one or both of the meetings, and to assist staff in identifying particular study needs, as well as the scope of environmental issues to be addressed in the environmental document. The times and locations of these meetings are as follows:

Evening Scoping Meeting

Date and Time: Monday, February 27, 2006, 7 p.m. (p.s.t.).

Location: PUD Electric Building Headquarters, 2320 California Street, Everett, Washington.

Directions: Arriving from Interstate 5, southbound: Take Exit 194, follow City Center signs onto Everett Avenue, westbound (right). Turn left at Virginia Avenue. Turn right at California Street.

Arriving from Interstate 5, northbound: Take Exit 193, turn left onto Pacific Avenue. Turn right at Cedar, and then left onto Hewitt Avenue. Turn right at Virginia Avenue.

For additional information: Please contact Ms. Dawn Presler, Relicensing Information Coordinator, Snohomish County PUD No. 1, (425) 783-1709 or DJPresler@SNOPUD.com.

Daytime Scoping Meeting

Date and Time: Tuesday, February 28, 2006, 10 a.m. (p.s.t.).

Location: Washington State Department of Ecology, Headquarters/Southwest Regional Office, 300 Desmond Drive, Lacey, Washington.

Directions: Arriving from Interstate 5, southbound: Take Martin Way Exit 109, turn left onto Martin Way. At the third traffic light turn right onto Desmond Drive. Head uphill and at the intersection turn left and proceed along the front of the Headquarters building. Proceed past a stop sign at the main entrance and find the visitors parking lot on the left.

Arriving from Interstate 5, northbound: Take Martin Way Exit 109, turn right onto Martin Way. At the second traffic light turn right onto Desmond Drive. Head uphill and at the intersection turn left and proceed along the front of the Headquarters building. Proceed past a stop sign at the main entrance and find the visitors parking lot on the left.

Please note that parking is limited and carpools are encouraged. If the visitors parking lots are full, retrace your route to Desmond Drive and take a left at the stop sign onto Desmond Drive. Continue around and park at the U.S. Fish and Wildlife Service building (510 Desmond Drive) and walk across the field to the Washington State Department of Ecology building.

Please check in at the front desk upon arriving at the Washington State Department of Ecology office building.

SD1, which outlines the subject areas to be addressed in the environmental document, has been mailed to the individuals and entities on the Commission's mailing list. Copies of SD1 will be available at the scoping meetings, or may be viewed on the web at http://www.ferc.gov, using the “eLibrary” link. Follow the directions for accessing information in paragraph m. Depending on the extent of comments received, a Scoping Document 2 (SD2) may or may not be issued.

Site Visit

A site visit is typically held in conjunction with the scoping meeting. However, anticipating that access to some project facilities would be limited by winter weather, the co-licensees hosted a project site visit on October 17, 2005. The site visit was noticed by the Commission on September 20, 2005 and attended by Commission staff on October 17, 2005. For these reasons, the Commission will not host its own site visit in conjunction with its NEPA scoping meeting.

Scoping Meeting Objectives

At the scoping meetings, staff will: (1) Present the proposed list of issues to be addressed in the EA; (2) review and discuss existing conditions and resource agency management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss requests by any Federal or state agency or Indian tribe acting as a cooperating agency for development of an environmental document.

Meeting participants should come prepared to discuss their issues and/or concerns. Please review the Pre-Application Document in preparation for the scoping meetings. Directions on how to obtain a copy of the PAD and SD1 are included in paragraph m of this document.

Scoping Meeting Procedures

The scoping meetings will be recorded by a stenographer and will become part of the formal Commission record on the project.

Magalie R. Salas,
Secretary.

[FR Doc. E6-1657 Filed 2-7-06; 8:45 am]

BILLING CODE 6717-01-P